DEPARTMENT OF HEALTH AND HUMAN SERVICES

Administration for Children and Families

Submission for OMB Review; Child Care and Development Fund Plan for States/Territories for FFY 2022-2024 (ACF-118; OMB #0970-0114)

AGENCY: Office of Child Care, Administration for Children and Families, HHS.

ACTION: Request for public comment.

SUMMARY: The Administration for Children and Families (ACF) is requesting a 3-year extension of the form ACF-118: Child Care and Development Fund Plan for States/Territories (OMB #0970-0114, expiration 12/31/2021) for FFY 2022-2024. There are minor changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Child Care and Development Fund (CCDF) Plan (the Plan) for States and Territories is required from each CCDF Lead agency in accordance with Section 658E of the Child Care and Development Block Grant Act of 1990 (CCDBG Act), as amended, CCDBG Act of 2014 (Pub. L. 113-186), and 42 U.S.C. 9858. The Plan, submitted on the ACF-118, is required triennially, and remains in effect for 3 years. The Plan provides ACF and the public with a description of, and assurance about the states' and territories' child care programs. These Plans are the applications for CCDF funds.

The Office of Child Care (OCC) has given thoughtful consideration to the comments received and has made changes to the Plan Preprint document following the publication of the 60-day public comment period. The comments and changes are addressed in the request package to the OMB.

Consistent with the statute and regulations, ACF requests revision of the ACF-118A with minor modifications. This 30-day second Public Comment Period provides an opportunity for the public to submit comments to the OMB.

Respondents: State and Territory Lead Agencies.

Annual Burden Estimates
Instrument | Total number of respondents | Total number of responses per respondent | Average burden hours per response | Total burden hours | Annual burden hours
Child Care and Development Fund Plan for States and Territories (ACF-118) | 56 | 1 | 200 | 11,200 | 3,733

Estimated Total Annual Burden Hours: 3,733.

Authority: Pub. L. 113-186 and 42 U.S.C. 9858.

Mary B. Jones,
ACF/OPRE Certifying Officer.

[FR Doc. 2020-27466 Filed 12-14-20; 8:45 am]

BILLING CODE 4184-43-P